DEPARTMENT OF HEALTH AND HUMAN SERVICES

Office of the National Coordinator for Health Information Technology; American Health Information Community Electronic Health Record Workgroup Meeting

ACTION: Announcement of meeting.

SUMMARY: This notice announces the eleventh meeting the American Health Information Community Electronic Health Record Workgroup in accordance with the Federal Advisory Committee Act (Pub. L. No. 92-463, 5 U.S.C., App.).

DATES: November 7, 2006, from 1 p.m. to 4 p.m.

ADDRESSES: Mary C. Switzer Building (330 C Street, SW., Washington, DC 20201), Conference Room 4090 (please bring photo ID for entry to a Federal building).

FOR FURTHER INFORMATION CONTACT: http://www/hhs.gov/healthit/ahic/ehr_main.html.

SUPPLEMENTARY INFORMATION: The workgroup discussion will include a discussion of critical components as well as other topics relating to an electronic health record.

The meeting will be available via Web cast at http://www.hhs.gov/healthit/ahic/ehr_instruct.html.

Dated: October 12, 2006.
Judith Sparrow,
Director, American Health Information Community, Office of Programs and Coordination, Office of the National Coordinator for Health Information Technology.

[FR Doc. 06-8733 Filed 10-17-06; 8:45 am]

BILLING CODE 4150-24-M